DEPARTMENT OF THE INTERIOR

Bureau of Land Management

[MT-912-08-0777-XX]

Notice of Public Meeting; Central Montana Resource Advisory

AGENCY: Bureau of Land Management, Interior.

ACTION: Notice of Public Meeting.

SUMMARY: In accordance with the Federal Land Policy and Management Act (FLPMA) and the Federal Advisory Committee Act of 1972 (FACA), the U.S. Department of the Interior, Bureau of Land Management (BLM), the Central Montana Resource Advisory Councils will meet as indicated below. This is a change from the meeting dates previously published in the Federal Register/Vol.73, No. 75/Thursday, April 17, 2008/Notices on page 20933.

DATES: The Central Montana Resource Advisory Council (RAC) will meet on May 20, 2008, from 8 a.m. until 11:30 a.m. at the BLM Montana State Office at 5001 Southgate Drive, Billings, Montana. Among the items to be discussed are the Malta and Upper Missouri River Breaks National Monument Resource Management Plans. The public comment period will be at 8 a.m. on May 20.

The Western, Central, and Eastern Montana and Dakotas RAC joint meeting and the Western and Eastern Montana and Dakotas RAC individual meetings will still occur on May 20-21, 2008, as per the notice published in the Federal Register/Vol.73, No. 75/Thursday, April 17, 2008/Notices on page 20933.

FOR FURTHER INFORMATION CONTACT: Mary Apple, State RAC Coordinator, BLM Montana State Office, 5001 Southgate Drive, Billings, MT 59101, (406) 896-5258.

SUPPLEMENTARY INFORMATION: The 15-member Council advises the Secretary of the Interior, through the Bureau of Land Management, on a variety of planning and management issues associated with public land management in central Montana.

All meetings are open to the public. The public may present written comments to the Council. Depending on the number of persons wishing to comment and time available, the time for individual oral comments may be limited. Individuals who plan to attend and need special assistance, such as sign language interpretation, or other reasonable accommodations, should contact the BLM as provided above.

Dated: April 29, 2008.
Gene R. Terland,
Montana State Director.

[FR Doc. E8-9789 Filed 5-2-08; 8:45 am]

BILLING CODE 4310-$$-P